DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Five-Year Records Retention Period.

Form Number(s): None.

OMB Control Number: 0694-0096.

Type of Request: Regular submission.

Burden Hours: 251.

Number of Respondents: 101,108.

Average Hours per Response: 1 second to 1 minute per response.

Needs and Uses: The Export Administration Regulations (EAR) requires all parties involved in export transactions and the U.S. party involved in the boycott action maintain records of these transactions for a period of five years. The five-year retention period corresponds with the statute of limitations for violations and is necessary to preserve potential evidence for investigations. The requirement enables BIS to detect violations from records up to five years old to correspond with the five-year statute of limitations and prove that a violation did or did not take place. The documents can also provide exculpatory evidence for firms who have been accused of export control violations and are innocent.

Affected Public: Business or other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285 or via the Internet at David_Rostker@omb.eop.gov.

Dated: October 19, 2007.
Gwellnar Banks,
Management Analyst, Office of the Chief Information Officer.

[FR Doc. E7-20990 Filed 10-24-07; 8:45 am]

BILLING CODE 3510-DT-P